DEPARTMENT OF VETERANS AFFAIRS

Advisory Committee on Women Veterans, Notice of Meeting

The Department of Veterans Affairs (VA) gives notice under the Federal Advisory Committee Act that the Advisory Committee on Women Veterans will conduct a virtual site visit on August 29-September 1, 2022, with the Veterans Integrated Service Network (VISN) 8: VA Sunshine Healthcare Network and the VA Caribbean Health Care System in San Juan, PR.

Date | Time | Location
August 29, 2022 | 10:00 a.m.-2:30 p.m. (ET) | See Webex link and call-in information below.
August 30, 2022 | 10:00 a.m.-2:30 p.m. (ET) | See Webex link and call-in information below.
August 31, 2022 | 10:00 a.m.-2:00 p.m. (ET) | See Webex link and call-in information below.
September 1, 2022 | 10:00 a.m.-11:00 a.m. (ET) | See Webex link and call-in information below.

The meeting sessions are open to the public.

The purpose of the Committee is to advise the Secretary of Veterans Affairs regarding the needs of women Veterans with respect to health care, rehabilitation, compensation, outreach and other programs and activities administered by VA designed to meet such needs. The Committee makes recommendations to the Secretary regarding such programs and activities.

On Monday, August 29, the agenda includes overviews of: VISN 8's facilities and programs; an overview of VISN 8 services for women Veterans; and an overview of VA Caribbean Health Care System facilities, programs and community partners.

On Tuesday, August 30, the agenda includes a continuation of briefings on VA Caribbean Health Care System's programs and services for women Veterans. On Wednesday, August 31, the agenda includes briefings on: Veteran Experience Committee; community engagement; an overview of San Juan Regional Office's business lines and initiatives; and an overview of Puerto Rico National Cemetery's services and programs.

On Thursday, September 1, the committee will conduct an out-briefing with leadership from VISN 8, VA Caribbean Health Care System, San Juan Regional Office and Puerto Rico National Cemetery. From 11:30 a.m.-12:30 p.m., the Committee will observe a women Veterans town hall meeting hosted by the VA Caribbean Health Care System. The meeting sessions and town hall meeting are open to the public. Information about the town hall meeting will be provided to the public by the VA Caribbean Health Care System.

No time will be allocated at this meeting for receiving oral presentations from the public. Interested parties should provide written comments for review by the Committee to Ms. Shannon L. Middleton at 00W@mail.va.gov no later than August 20. Any member of the public who wishes to participate in the virtual site visit may use the following WebEx link: https://veteransaffairs.webex.com/veteransaffairs/j.php?MTID=mde17883b2f3b501d27cddbde89b7e3cc; meeting number: 2762 754 0002; password: KJudtUR@285. Participants can also join by phone (toll free) at 1-404-397-1596; access code: 2762 754 0002.

Dated: August 8, 2022.
Jelessa M. Burney,
Federal Advisory Committee Management Officer.

[FR Doc. 2022-17283 Filed 8-10-22; 8:45 am]

BILLING CODE 8320-01-P